ENVIRONMENTAL PROTECTION AGENCY

40 CFR Part 52

[OK-14-1-7367; FRL-6727-1]

Approval and Promulgation of Implementation Plans; Oklahoma; Revised Format for Materials Being Incorporated by Reference

Correction

In rule document 00-19376 beginning on page 47326 in the issue of Wednesday, August 2, 2000, make the following corrections:

§52.1920 [Corrected]

1. On page 47329, in §52.1920(c), tables 1.4.1. through 1.4.4. should read as follows:

EPA Approved Oklahoma Regulations
State citation | Title/subject | State effective date | EPA approval date | Explanation
Oklahoma Air Pollution Control Regulations
Regulation 1.4. Air Resources Management Permits Required
1.4.1. General Permit Requirements
1.4.1(a) | Scope and Purpose | ¹ 05/19/1983 | 08/25/1983, 48 FR 38635 | Ref: 52.1960(c)(26)
1.4.1(b) | General Requirements | 06/04/1990 | 07/23/1991, 56 FR 33715 | Ref: 52.1960(c)(41)
1.4.1(c) | Necessity to Obtain Permit | 06/04/1990 | 07/23/1991, 56 FR 33715 | Ref: 52.1960(c)(41)
1.4.1(d) | Permit fees | ¹ 05/19/1983 | 08/25/1983, 48 FR 38635 | Ref: 52.1960(c)(26)
1.4.2. Construction Permit
1.4.2(a) | Standards Required | 06/04/1990 | 07/23/1991, 56 FR 33715 | Ref: 52.1960(c)(41)
1.4.2(b) | Stack Height Limitation | 06/11/1989 | 08/20/1990, 55 FR 33905 | Ref: 52.1960(c)(34)
1.4.2(c) | Permit Applications | 06/04/1990 | 07/23/1991, 56 FR 33715 | Ref: 52.1960(c)(41)
1.4.2(d) | Action on Applications | ¹ 05/19/1983 | 08/25/1983, 48 FR 38635 | Ref: 52.1960(c)(26)
1.4.2(e) | Public Review | 06/11/1989 | 08/20/1990, 55 FR 33905 | Ref: 52.1960(c)(34)
1.4.2(f) | Construction Permit Conditions | ¹ 05/19/1983 | 08/25/1983, 48 FR 38635 | Ref: 52.1960(c)(26)
1.4.2(g) | Cancellation of Authority to Construct or Modify | ¹ 02/06/1984 | 07/27/1984, 49 FR 30184 | Ref: 52.1960(c)(31)
1.4.2(h) | Relocation Permits | 11/14/1990 | 07/23/1991, 56 FR 33715 | Ref: 52.1960(c)(41)
1.4.3. Operating Permit
1.4.3(a) | Requirements | ¹ 05/19/1983 | 08/25/1983, 48 FR 38635 | Ref: 52.1960(c)(26)
1.4.3(b) | Permit Applications | ¹ 05/19/1983 | 08/25/1983, 48 FR 38635 | Ref: 52.1960(c)(26)
1.4.3(c) | Operating Permit Conditions | ¹ 05/19/1983 | 08/25/1983, 48 FR 38635 | Ref: 52.1960(c)(26)
1.4.4. Major Sources—Prevention of Significant Deterioration (PSD) Requirements for Attainment Areas
1.4.4(a) | Applicability | ¹ 05/19/1983 | 08/25/1983, 48 FR 38635 | Ref: 52.1960(c)(26)
1.4.4(b) | Definitions: Restricted Section 1.4.4 | 06/04/1990 | 07/23/1991, 56 FR 33715 | Ref: 52.1960(c)(41)
1.4.4(c) | Source Applicability Determination | ¹ 05/19/1983 | 08/25/1983, 48 FR 38635 | Ref: 52.1960(c)(26)
1.4.4(d) | Review, Applicability, and Exemptions | 06/04/1990 | 07/23/1991, 56 FR 33715 | Ref: 52.1960(c)(41)
1.4.4(e) | Control Technology | ¹ 05/19/1983 | 08/25/1983, 48 FR 38635 | Ref: 52.1960(c)(26)
1.4.4(f) | Air quality impact evaluation | 08/10/1987 | 11/08/1999, 64 FR 60683 | Ref: 52.1960(c)(49)
1.4.4(g) | Source Impacting Class I areas | 08/10/1987 | 11/08/1999, 64 FR 60683 | Ref: 52.1960(c)(49)
1.4.4(h) | Innovative Control Technology | ¹ 05/19/1983 | 08/25/1983, 48 FR 38635 | Ref: 52.1960(c)(26)

* * * * *

2. On page 47332, in §52.1920(c), in Subchapter 37, under the third entry, add Parts 5 and 7 to read as follows:

EPA Approved Oklahoma Regulations
State citation | Title/subject | State effective date | EPA approval date | Explanation
* * * * * * *
Part 5. Control of Organic Solvents
252:100-37-25 | Coating of parts and products | 05/26/1994 | 11/03/1999, 64 FR 59629
252:100-37-26 | Clean up with organic solvents | 05/26/1994 | 11/03/1999, 64 FR 59629
Part 7. Control of Specific Processes
252:100-37-35 | Waste gas disposal | 05/26/1994 | 11/03/1999, 64 FR 59629

* * * * *

3. On page 47332, in §52.1920(c), in Subchapter 39, Part 5 should read as follows:

EPA Approved Oklahoma Regulations
State citation | Title/subject | State effective date | EPA approval date | Explanation
Part 5. Petroleum Processing and Storage
252:100-39-30 | Petroleum liquid storage in external floating roof tanks | 05/26/1994 | 11/03/1999; 64 FR 59629

[FR Doc. C0-19376 Filed 8-28-00; 8:45 am]

BILLING CODE 1505-01-D